SECURITIES AND EXCHANGE COMMISSION

Sunshine Act Meetings

TIME AND DATE: Notice is hereby given, pursuant to the provisions of the Government in the Sunshine Act, Public Law 94-409, that the Commission will host the SEC Government-Business Forum on Small Business Capital Formation on Thursday, November 30, 2017, beginning at 9:00 a.m. Central Time.

PLACE: The forum will be held at the AT&T Executive Education and Conference Center on the campus of The University of Texas at Austin, 1900 University Ave., Austin, TX 78705.

STATUS: This meeting will be open to the public.

MATTERS TO BE CONSIDERED: The forum will be open to the public and will include remarks by SEC Commissioners and a panel discussion that Commissioners may attend. The panel discussion will explore how capital formation options are working for small businesses, including small businesses in Texas. This Sunshine Act notice is being issued because a majority of the Commission may attend the meeting.

CONTACT PERSON FOR MORE INFORMATION: For further information and to ascertain what, if any, matters have been added, deleted or postponed; please contact Brent J. Fields from the Office of the Secretary at (202) 551-5400.

Dated: November 22, 2017.
Brent J. Fields,
Secretary.

[FR Doc. 2017-25700 Filed 11-22-17; 4:15 pm]

BILLING CODE 8011-01-P